NATIONAL ARCHIVES AND RECORDS ADMINISTRATION

[NARA-2014-056]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 17, 2014. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Agricultural Marketing Service (DAA-0136-2014-0002, 3 items, 1 temporary item). Reference copies of annual summaries of market news reports and statistical detailed quotations. Proposed for permanent retention are the record copies of annual summaries and statistical detailed quotations.

2. Department of Commerce, National Oceanic and Atmospheric Administration (DAA-0370-2014-0002, 11 items, 9 temporary items). Records include source documents, drawings, and working files used for the creation of nautical charts and maps. Proposed for permanent retention are chart history files supplementing published maps and charts.

3. Department of Defense, Defense Finance and Accounting Service (DAA-0507-2014-0001, 5 items, 5 temporary items). Case files, reports, and tracking logs of internal investigations of administrative and criminal misconduct allegations. Also included are records related to assistance provided to investigation units in other agencies.

4. Department of Defense, Defense Health Agency (DAA-0330-2014-0012, 1 item, 1 temporary item). Master files of an electronic information system used to support wounded military patient transportation and medical care.

5. Department of Homeland Security, Agency-wide (DAA-0563-2013-0002, 2 items, 2 temporary items). Reports relating to situational awareness and suspicious activity.

6. Department of Homeland Security, Transportation Security Administration (N1-560-12-14, 7 items, 7 temporary items). Records related to background checks for non-U.S. citizens who pursue flight training.

7. Department of Justice, Bureau of Alcohol, Tobacco, Firearms, and Explosives (DAA-0436-2013-0004, 1 item, 1 temporary item). Master files of an electronic information system used to track and analyze gangs and gang activity.

8. Department of Justice, Bureau of Alcohol, Tobacco, Firearms, and Explosives (DAA-0436-2013-0006, 2 items, 2 temporary items). Records related to security of executive staff, including threat assessments and reports.

9. Department of Justice, Executive Office for Immigration Review (DAA-0582-2014-0002, 4 items, 4 temporary items). Bond proceeding files of detained immigrants.

10. Department of Labor, Employment and Training Administration (DAA-0369-2013-0003, 2 items, 2 temporary items). Grant files and related working papers.

11. Department of State, Office of the Chief of Protocol (DAA-0059-2014-0008, 2 items, 1 temporary item). Records of the Diplomatic Partnership Division including cultural events working files, correspondence, research material, and other administrative documentation. Proposed for permanent retention are the program files.

12. Department of Transportation, Federal Transit Administration (N1-408-12-2, 2 items, 2 temporary items). Inputs and master files of an electronic information system used to track grant activities.

13. Department of Transportation, National Highway Traffic Safety Administration (DAA-0416-2012-0005, 1 item, 1 temporary item). Master files of an electronic information system used to track impaired-driving data.

14. Department of the Treasury, Internal Revenue Service (DAA-0058-2014-0004, 27 items, 27 temporary items). Administrative records of the Criminal Investigation office including equipment inventories, correspondence files, internal control documents, and other related materials.

15. Central Intelligence Agency, Agency-wide (N1-263-14-1, 1 item, 1 temporary item). Record copies of email of all agency personnel who are not in senior leadership positions.

16. National Archives and Records Administration, Government-wide (DAA-GRS-2014-0005, 18 items, 18 temporary items). General Records Schedule for records of ethics program offices.

17. National Archives and Records Administration, Research Services (N2-59-14-1, 1 item, 1 temporary item). Records of the Department of State including galley proofs of external publications relating to the Department of State, correspondence related to the publications, and reviews of legislation and legislative reports. These records were accessioned to the National Archives but lack sufficient historical value to warrant continued preservation.

18. National Archives and Records Administration, Research Services (N2-84-14-2, 1 item, 1 temporary item). Records of the Department of State including bound volumes of circulars sent by the Department of State to American diplomatic and consular posts. These records were accessioned to the National Archives but lack sufficient historical value to warrant continued preservation.

19. Securities and Exchange Commission, Agency-wide (DAA-0266-2014-0004, 5 items, 4 temporary items). Records include office-level policies, supplemental procedures, and background files. Proposed for permanent retention are internal policy regulations.

Dated: September 11, 2014.
Paul M. Wester, Jr.,
Chief Records Officer for the U.S. Government.

[FR Doc. 2014-22177 Filed 9-16-14; 8:45 am]

BILLING CODE 7515-01-P